DEPARTMENT OF TRANSPORTATION

Federal Aviation Administration

Eleventh Meeting Special Committee 231 TAWS

AGENCY: Federal Aviation Administration (FAA), U.S. Department of Transportation (DOT).

ACTION: Eleventh Meeting Special Committee 231 TAWS.

SUMMARY: The FAA is issuing this notice to advise the public of a meeting of Eleventh Meeting Special Committee 231 TAWS.

DATES: The meeting will be held September 20-23, 2016, 9:00 a.m. to 5:00 p.m. Tuesday, Wednesday, Thursday, 9:00 a.m. to 1:00 p.m. Friday.

ADDRESSES: The meeting will be held at: RTCA, Inc., 1150 18th Street NW., Suite 910, Washington, DC 20036. Individuals wishing for WebEx/Audio information should contact the person listed in the FOR FURTHER INFORMATION CONTACT section.

FOR FURTHER INFORMATION CONTACT: Rebecca Morrison at rmorrison@rtca.org or (202) 330-0654 or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Eleventh Meeting Special Committee 231 TAWS. The agenda will include the following:

Tuesday, September 20, 2016—9:00 a.m.-5:00 p.m.

(1) Welcome/Introduction

(2) Administrative Remarks

(3) Agenda Review

(4) Summary of Pre-FRAC comments received on Strawman

(5) Other Business

(6) Date and Place of Next Meeting

Wednesday, Thursday, September 21st, 22nd—9:00 a.m.-5:00 p.m.

Continuation of Plenary or Working Group Session

Friday, September 23rd—9:00 a.m.-1:00 p.m.

Continuation of Plenary or Working Group Session

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on July 25, 2016.
Mohannad Dawoud,
Management & Program Analyst, Partnership Contracts Branch, ANG-A17, NextGen, Procurement Services Division, Federal Aviation Administration.

[FR Doc. 2016-17935 Filed 7-27-16; 8:45 am]

BILLING CODE 4910-13-P